DEPARTMENT OF HOMELAND SECURITY

Coast Guard

33 CFR Parts 100, 117, 147, and 165

[USCG-2010-0399]

Quarterly Listings; Safety Zones, Security Zones, Special Local Regulations, Drawbridge Operation Regulations and Regulated Navigation Areas

AGENCY: Coast Guard, DHS.

ACTION: Notice of expired temporary rules issued; correction.

SUMMARY: The Coast Guard published a document in the Federal Register of February 9, 2011, concerning the expiration of temporary rules. The document contained an incorrect docket number.

DATES: Effective February 22, 2011.

FOR FURTHER INFORMATION CONTACT: For questions on this notice contact Yeoman First Class Denise Johnson, Office of Regulations and Administrative Law, telephone (202) 372-3862.

SUPPLEMENTARY INFORMATION:

Correction

In the Federal Register of February 9, 2011, in FR Vol. 76, No. 27, on page 7107, in the second column, correct the docket number [USCG-2011-0399] to read [USCG-2010-0399].

Dated: February 10, 2011.
K.A. Sinniger,
Chief, Office of Regulations and Administrative Law.

[FR Doc. 2011-3867 Filed 2-18-11; 8:45 am]

BILLING CODE 9110-04-P